DEPARTMENT OF THE INTERIOR

Bureau of Land Management

[LLCOS01000 L13100000.EJ0000 16X]

Notice of Public Meetings, Southwest Colorado Resource Advisory Council Oil and Gas Sub-Group

AGENCY: Bureau of Land Management, Interior.

ACTION: Notice of public meeting.

SUMMARY: In accordance with the Federal Land Policy and Management Act and the Federal Advisory Committee Act of 1972, the U.S. Department of the Interior, Bureau of Land Management (BLM) Southwest Resource Advisory Council (RAC) Oil and Gas Sub-Group is scheduled to meet as indicated below.

DATES: The Southwest RAC Oil and Gas Sub-Group will hold meetings on February 11, 2016, in Durango and Mancos, Colorado, as well as March 16, 2016, in Cortez and Hesperus, Colorado.

ADDRESSES: The February 11 Southwest RAC Oil and Gas Sub-Group meetings will be from 10 a.m. to approximately 12 p.m. at the La Plata County Fairgrounds, 2500 Main Ave., Durango, Colorado; and from 6 p.m. to approximately 8 p.m. at the Mancos School, 395 W. Grand Ave., Mancos, Colorado. The meetings have identical agendas. There will be a public comment period regarding matters on the agenda at 11:30 a.m. in Durango and 7:30 p.m. in Mancos.

The March 16 Southwest RAC Oil and Gas sub-group meetings will be from 10 a.m. to approximately 12 p.m. at the Montezuma County Annex, 107 N. Chestnut St., Cortez, Colorado; and from 6 p.m. to approximately 8 p.m. at the Fort Lewis Mesa Elementary School, 11274 Colorado Hwy. 140, Hesperus, Colorado. These meetings also have identical agendas. There will be a public comment period regarding matters on the agenda at 11:30 a.m. in Cortez and 7:30 p.m. in Hesperus.

FOR FURTHER INFORMATION CONTACT: Barbara Sharrow, BLM Southwest Acting District Manager, 970-240-5300; or Shannon Borders, Public Affairs Specialist, 970-240-5300; 2505 S. Townsend Ave., Montrose, CO 81401. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Southwest RAC advises the Secretary of the Interior, through the BLM, on a variety of public land issues in Colorado. The Southwest RAC Oil and Gas Sub-Group identifies key priorities for the Southwest RAC to recommend to the Secretary of the Interior through the BLM. At these meetings, the sub-group will continue to discuss the BLM's proposed Master Leasing Plan in western La Plata and eastern Montezuma counties. The meetings are open to the public. The public may present written comments to the sub-group. The meetings will also have time, as identified above, allocated for hearing public comments. Depending on the number of people wishing to comment and time available, the time for individual oral comments may be limited.

Ruth Welch,
BLM Colorado State Director.

[FR Doc. 2016-00393 Filed 1-11-16; 8:45 am]

BILLING CODE 4310-JB-P